DEPARTMENT OF COMMERCE

International Trade Administration

[C-570-091]

Certain Steel Wheels 12 to 16.5 Inches in Diameter From the People's Republic of China: Postponement of Preliminary Determination in the Countervailing Duty Investigation

AGENCY: Enforcement and Compliance, International Trade Administration, Department of Commerce.

DATES: Applicable October 15, 2018.

FOR FURTHER INFORMATION CONTACT: Emily Halle at (202) 482-0176, or Keith Haynes at (202) 482-5139, AD/CVD Operations, Enforcement and Compliance, International Trade Administration, Department of Commerce, 1401 Constitution Avenue NW, Washington, DC 20230.

SUPPLEMENTARY INFORMATION:

Background

On August 28, 2018, the Department of Commerce (Commerce) initiated the countervailing duty (CVD) investigation of certain steel wheels 12 to 16.5 inches in diameter (certain steel wheels) from the People's Republic of China.¹ The preliminary determination is currently due no later than November 1, 2018.

¹ See Certain Steel Wheels 12 to 16.5 Inches in Diameter from the People's Republic of China: Initiation of Countervailing Duty Investigation, 83 FR 45104 (September 5, 2018).

Postponement of the Preliminary Determination

Section 703(b)(1) of the Tariff Act of 1930, as amended (the Act), requires Commerce to issue a preliminary determination in a CVD investigation within 65 days after the date on which Commerce initiated the investigation. However, section 703(c)(1)(A) of the Act permits Commerce to postpone the preliminary determination until no later than 130 days after the date on which Commerce initiated the investigation if the petitioner makes a timely request for a postponement. Under 19 CFR 351.205(e), the petitioner must submit a request for postponement 25 days or more before the scheduled date of the preliminary determination and must state the reason for the request. Commerce will grant the request unless it finds compelling reasons to deny it.²

² See 19 CFR 351.205(e).

On September 25, 2018, Dexstar Wheel, a division of Americana Development, Inc. (the petitioner) submitted a timely request pursuant to section 703(c)(1)(A) of the Act and 19 CFR 351.205(e) to postpone fully the preliminary determination. The petitioner stated that the purpose of its request was to provide Commerce with adequate time to solicit information from the respondents and to allow Commerce sufficient time to analyze respondents' questionnaire responses.³

³ See Letter from the petitioner, “Certain Steel Wheels 12 to 16.5 Inches in Diameter from China (C-570-091) Petitioner's Request to Postpone the Deadline for the Preliminary Determination,” dated September 25, 2018.

For the reasons stated above, and because there is are compelling reasons to deny the petitioner's request, Commerce, in accordance with section 703(c)(1)(A) of the Act, is postponing the deadline for the preliminary determination by 65 days (i.e., 130 days after the date on which this investigation was initiated). As a result, Commerce will issue its preliminary determination no later than January 7, 2019.⁴ Pursuant to section 705(a)(l) of the Act and 19 CFR 351.210(b)(1), the deadline for the final determination will continue to be 75 days after the date of the preliminary determination, unless postponed at a later date.

⁴ The actual deadline is January 5, 2019, which is a Saturday. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(l).

Dated: October 9, 2018.
Gary Taverman,
Deputy Assistant Secretary for Antidumping and Countervailing Operations, performing the non-exclusive functions and duties of the Assistant Secretary for Enforcement and Compliance.

[FR Doc. 2018-22365 Filed 10-12-18; 8:45 am]

BILLING CODE 3510-DS-P